DEPARTMENT OF TRANSPORTATION

Federal Aviation Administration

14 CFR Part 39

[Docket No. FAA-2015-8129; Directorate Identifier 2014-NM-197-AD]

RIN 2120-AA64

Airworthiness Directives; Bombardier, Inc. Airplanes

AGENCY: Federal Aviation Administration (FAA), DOT.

ACTION: Notice of proposed rulemaking (NPRM).

SUMMARY: We propose to adopt a new airworthiness directive (AD) for certain Bombardier, Inc. Model CL-600-2B16 (CL-604 Variant) airplanes. This proposed AD was prompted by a determination that certain maintenance tasks for the horizontal stabilizer trim actuator (HSTA) are inadequate. This proposed AD would require revising the maintenance or inspection program, as applicable, to incorporate new airworthiness limitations for the HSTA. We are proposing this AD to detect and correct premature wear and cracking of the HSTA, which could result in failure of the HSTA and consequent loss of control of the airplane.

DATES: We must receive comments on this proposed AD by February 18, 2016.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-8129; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Cesar Gomez, Aerospace Engineer, Airframe and Mechanical Systems Branch, ANE-171, FAA, New York Aircraft Certification Office, 1600 Stewart Avenue, Suite 410, Westbury, NY 11590; telephone 516-228-7318; fax 516-794-5531.

SUPPLEMENTARY INFORMATION:

Comments Invited

We invite you to send any written relevant data, views, or arguments about this proposed AD. Send your comments to an address listed under the ADDRESSES section. Include “Docket No. FAA-2015-8129; Directorate Identifier 2014-NM-197-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2014-30, dated September 5, 2014 (referred to after this as the Mandatory Continuing Airworthiness Information, or “the MCAI”), to correct an unsafe condition for certain Bombardier, Inc. Model CL-600-2B16 (CL-604 Variant) airplanes. The MCAI states:

A revision has been made to the CL 604/605 Time Limits/Maintenance Checks (TLMC) manual, to introduce new tasks for the HSTA. Failure to comply with the TLMC tasks could lead to an unsafe condition.

This [Canadian] AD is issued to ensure that premature wear and cracking of the affected components are detected and corrected.

The unsafe condition is premature wear and cracking of the HSTA, which could result in failure of the HSTA and consequent loss of control of the airplane. You may examine the MCAI in the AD docket on the Internet at http://www.regulations.gov by searching for and locating Docket No. FAA-2015-8129.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would require revising the maintenance or inspection program to incorporate new airworthiness limitations for the HSTA.

Related Service Information Under 1 CFR Part 51

Bombardier Inc. has issued the following service information.

• For Model CL-600-2B16 (CL-604 Variant) airplanes, serial numbers 5301 through 5665 inclusive: Task 27-42-01-109, Restoration (Overhaul) of the Horizontal Stabilizer Trim Actuator, Part No. 604-92305-7 and Subs (Vendor Part No. 8454-3 and Subs); and Task 27-42-01-111, Detailed Inspection of the Horizontal Trim Actuator (HSTA) Secondary Load Path Indicator, Part No. 604-92305-7 and Subs (Vendor Part No. 8454-3 and Subs); of Section 5-10-40, Certification Maintenance Requirements, of Part 2, Airworthiness Limitations, Revision 22, dated July 11, 2014, of the Bombardier Challenger 604 Time Limits/Maintenance Checks Manual.

• For Model CL-600-2B16 (CL-604 Variant) airplanes, serial numbers 5701 through 5962 inclusive: Task 27-42-01-109, Restoration (Overhaul) of the Horizontal Stabilizer Trim Actuator, Part No. 604-92305-7 and Subs (Vendor Part No. 8454-3 and Subs); and Task 27-42-01-111, Detailed Inspection of the Horizontal Trim Actuator (HSTA) Secondary Load Path Indicator, Part No. 604-92305-7 and Subs (Vendor Part No. 8454-3 and Subs); of Section 5-10-40, Certification Maintenance Requirements, of Part 2, Airworthiness Limitations, Revision 10, dated July 11, 2014, of the Bombardier Challenger 605 Time Limits/Maintenance Checks Manual.

The service information describes procedures for revising the maintenance or inspection program to incorporate new airworthiness limitations for the HSTA. This service information is reasonably available because the interested parties have access to it through their normal course of business or by the means identified in the ADDRESSES section of this NPRM.

Costs of Compliance

We estimate that this proposed AD affects 78 airplanes of U.S. registry.

We also estimate that it would take about 1 work-hour per product to comply with the basic requirements of this proposed AD. The average labor rate is $85 per work-hour. Based on these figures, we estimate the cost of this proposed AD on U.S. operators to be $6,630, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2015-8129; Directorate Identifier 2014-NM-197-AD.

(a) Comments Due Date

We must receive comments by February 18, 2016.

(b) Affected ADs

None.

(c) Applicability

This AD applies to Bombardier, Inc. Model CL-600-2B16 (CL-604 Variant) airplanes, certificated in any category, serial numbers 5301 through 5665 inclusive, and 5701 through 5962 inclusive.

(d) Subject

Air Transport Association (ATA) of America Code 27, Flight Controls.

(e) Reason

This AD was prompted by a determination that certain maintenance tasks for the horizontal stabilizer trim actuator (HSTA) are inadequate. We are issuing this AD to detect and correct premature wear and cracking of the HSTA, which could result in failure of the HSTA and consequent loss of control of the airplane.

(f) Compliance

Comply with this AD within the compliance times specified, unless already done.

(g) Maintenance or Inspection Program Revision

Within 30 days after the effective date of this AD: Revise the maintenance or inspection program, as applicable, to incorporate Task 27-42-01-109, Restoration (Overhaul) of the Horizontal Stabilizer Trim Actuator, Part No. 604-92305-7 and Subs (Vendor Part No. 8454-3 and Subs); and Task 27-42-01-111, Detailed Inspection of the Horizontal Trim Actuator (HSTA) Secondary Load Path Indicator, Part No. 604-92305-7 and Subs (Vendor Part No. 8454-3 and Subs); of the applicable document identified in paragraph (g)(1) or (g)(2) of this AD.

(1) For Model CL-600-2B16 (CL-604 Variant) airplanes, serial numbers 5301 through 5665 inclusive: Section 5-10-40, Certification Maintenance Requirements, of Part 2, Airworthiness Limitations, Revision 22, dated July 11, 2014, of the Bombardier Challenger 604 Time Limits/Maintenance Checks Manual.

(2) For Model CL-600-2B16 (CL-604 Variant) airplanes, serial numbers 5701 through 5962 inclusive: Section 5-10-40, Certification Maintenance Requirements, of Part 2, Airworthiness Limitations, Revision 10, dated July 11, 2014, of the Bombardier Challenger 605 Time Limits/Maintenance Checks Manual.

(h) No Alternative Actions or Intervals

After the maintenance or inspection program has been revised, as required by paragraph (g) of this AD, no alternative actions (e.g., inspections) or intervals may be used unless the actions or intervals are approved as an alternative method of compliance (AMOC) in accordance with the procedures specified in paragraph (i)(1) of this AD.

(i) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(j) Related Information

(1) Refer to Mandatory Continuing Airworthiness Information (MCAI) Canadian Airworthiness Directive CF-2014-30, dated September 5, 2014, for related information. This MCAI may be found in the AD docket on the Internet at http://www.regulations.gov by searching for and locating Docket No. FAA-2015-8129.

(2) For service information identified in this AD, contact Bombardier, Inc., 400 Côte-Vertu Road West, Dorval, Québec H4S 1Y9, Canada; telephone 514-855-5000; fax 514-855-7401; email thd.crj@aero.bombardier.com; Internet http://www.bombardier.com. You may view this service information at the FAA, Transport Airplane Directorate, 1601 Lind Avenue SW., Renton, WA.

Issued in Renton, Washington, on December 18, 2015.
Jeffrey E. Duven,
Manager, Transport Airplane Directorate, Aircraft Certification Service.

[FR Doc. 2015-32888 Filed 12-31-15; 8:45 am]

BILLING CODE 4910-13-P